ENVIRONMENTAL PROTECTION AGENCY

[EPA-HQ-OPPT-2019-0075; FRL-9992-85]

Certain New Chemicals; Receipt and Status Information for November 2019

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA Section 5, including notice of receipt of a Premanufacture notice (PMN), Significant New Use Notice (SNUN) or Microbial Commercial Activity Notice (MCAN), including an amended notice or test information; an exemption application (Biotech exemption); an application for a test marketing exemption (TME), both pending and/or concluded; a notice of commencement (NOC) of manufacture (including import) for new chemical substances; and a periodic status report on new chemical substances that are currently under EPA review or have recently concluded review. This document covers the period from 11/01/2019 to 11/30/2019.

DATES: Comments identified by the specific case number provided in this document must be received on or before March 19, 2020.

ADDRESSES: Submit your comments, identified by docket identification (ID) number EPA-HQ-OPPT-2019-0075, and the specific case number for the chemical substance related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, Information Management Division (7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from 11/01/2019 to 11/30/2019. The Agency is providing notice of receipt of PMNs, SNUNs and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the TSCA, 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: http://www.epa.gov/oppt/newchems.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Status Reports

In the past, EPA has published individual notices reflecting the status of TSCA section 5 filings received, pending or concluded. In 1995, the Agency modified its approach and streamlined the information published in the Federal Register after providing notice of such changes to the public and an opportunity to comment (See the Federal Register of May 12, 1995, (60 FR 25798) (FRL-4942-7). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs that have passed an initial screening by EPA during this period, Table I provides the following information (to the extent that such information is not subject to a CBI claim) on the notices screened by EPA during this period: The EPA case number assigned to the notice that indicates whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g., P-18-1234A). The version column designates submissions in sequence as “1”, “2”, “3”, etc. Note that in some cases, an initial submission is not numbered as version 1; this is because earlier version(s) were rejected as incomplete or invalid submissions. Note also that future versions of the following tables may adjust slightly as the Agency works to automate population of the data in the tables.

Table I—PMN/SNUN/MCANs Approved * From 11/01/2019 to 11/30/2019
Case No. | Version | Received date | Manufacturer | Use | Chemical substance
J-19-0024A | 2 | 9/10/2019 | CBI | (G) Ethanol production | (G) Biofuel producting Saccharomyces cerevisiae modified, genetically stable.
J-19-0025A | 2 | 9/10/2019 | CBI | (G) Ethanol production | (G) Biofuel producting Saccharomyces cerevisiae modified, genetically stable.
J-19-0026A | 2 | 11/13/2019 | CBI | (G) Production of biofuel | (G) Biofuel-producing modified microorganism(s), with chromosomally-borne modifications.
J-19-0026A | 3 | 11/15/2019 | CBI | (G) Production of biofuel | (G) Biofuel-producing modified microorganism(s), with chromosomally-borne modifications.
J-19-0027A | 2 | 11/13/2019 | CBI | (G) Production of biofuel | (G) Biofuel-producing modified microorganism(s), with chromosomally-borne modifications.
J-19-0027A | 3 | 11/15/2019 | CBI | (G) Production of biofuel | (G) Biofuel-producing modified microorganism(s), with chromosomally-borne modifications.
P-16-0486A | 4 | 11/1/2019 | CBI | (G) Site-limited intermediate in the production of a refrigerant precursor | (G) Polychloropropane.
P-17-0007A | 6 | 11/15/2019 | CBI | (S) Intermediate | (G) dialkyl 7,10-dioxa, dithiahexadeca diene.
P-17-0260A | 3 | 11/21/2019 | Shin Etsu Silicones of America | (G) Resin modifier | (G) Alkoxy silane modified butadiene-styrene copolymer.
P-18-0019A | 3 | 10/29/2019 | Cabot Corporation | (S) Dispersive pigment | (G) Substituted Benzene, 4-[2-[2-hydroxy-3-[[(3-nitrophenyl)amino]carbonyl]-1-naphthalenyl]diazenyl]-, sodium salt (1:1).
P-18-0029A | 2 | 10/30/2019 | CBI | (G) Industrial use in Oilfield | (G) Fatty acids and fatty acid unsatd., reaction products with ethyleneamines and maleic anhydride.
P-18-0031A | 6 | 11/20/2019 | CBI | (G) Ingredient for industrial coating | (G) Substituted dicarboxylic acid, polymer with various alkanediols.
P-18-0160A | 4 | 11/11/2019 | CBI | (G) Coating component | (G) Heteropolycyclic, halo substituted alkyl substituted- diaromatic amino substituted carbomonocycle, halo substituted alkyl substituted heteropolycyclic, tetraaromatic metalloid salt (1:1).
P-18-0165A | 6 | 11/1/2019 | Cabot Corporation | (S) Chemical intermediate | (G) 2,5-Furandione, polymer with ethenylbenzene, 4-hydroxy-substituted butyl amide, sodium salts.
P-18-0166A | 6 | 11/1/2019 | Cabot Corporation | (S) Chemical Intermediate | (G) 2,5-Furandione, polymer with ethenylbenzene, 4-hydroxy- substituted butyl [3-[2-[1-[[(2-methoxyphenyl)amino]carbonyl]-2-oxopropyl]diazenyl]phenyl]substituted, sodium salts.
P-18-0167A | 4 | 11/6/2019 | Cabot Corporation | (S) Chemical intermediate | (G) Butanamide, 2-[2-[(substitutued phenyl)diazenyl]-N-(2-methoxyphenyl)-3-oxo-.
P-18-0190A | 5 | 11/6/2019 | Cabot Corporation | (S) Pigment Dispersing Aid | (G) 2,5-Furandione, polymer with ethenylbenzene, 4-hydroxy-substituted butyl amide, polymers with epichlorohydrin and trimethylolpropane, sodium salts.
P-18-0191A | 5 | 11/6/2019 | Cabot Corporation | (S) Pigment Dispersing Aid | (G) 2,5-Furandione, polymer with ethenylbenzene, 4-hydroxy-substitutedbutyl [3-[2-[1-[[(substitutedphenyl)amino]carbonyl]-2-oxopropyl]diazenyl]phenyl]methyl amide, polymers with epichlorohydrin and trimthylolpropane, sodium salts.
P-18-0213A | 3 | 11/8/2019 | CBI | (S) polyester or polyamide modifer incorporated into backbone of polymer | (S) 1,3-Benzenedicarboxylic acid, 5-sulfo-, calcium salt (2:1).
P-18-0214A | 4 | 11/21/2019 | CBI | (G) Curing agent | (G) Polycyclic substituted alkane, polymer with cyclicalkylamine, epoxide, and polycyclic epoxide ether, reaction products with dialkylamine substituted alkyl amine.
P-18-0215A | 4 | 11/21/2019 | CBI | (G) Curing agent | (G) Polycyclic alkane, polymer with monocyclic amine, polycyclic epoxide ether, reaction products with dialkylamine alkyl amine.
P-18-0216A | 4 | 11/21/2019 | CBI | (G) Curing agent | (G) Polycyclic substituted alkane, polymer with epoxide, reaction products with cyclicalkylamine and dialkylamine substituted alkyl amine.
P-18-0236A | 3 | 11/14/2019 | The Sherwin Williams Company | (G) Paint additive | (G) Metal, alkenoic acid-alkyl alkenoate-alkyl substituted alkenoate polymer carbopolycycle complexes.
P-18-0274A | 7 | 11/5/2019 | CBI | (S) Chemical intermediate and (G) Additive | (G) Heterocycle fluoroalkyl sulfonyl.
P-18-0275A | 6 | 11/5/2019 | CBI | (G) Polymer additive | (G) Methanone phenylene fluoroalkyl sulfonyl heterocycle.
P-18-0363A | 3 | 10/31/2019 | CBI | (G) Adhesive | (G) Phenol, polymer with formaldehyde, substituted phenol, sodium salts.
P-18-0367 | 2 | 11/11/2019 | Afcona Chemicals USA Inc | (S) Acid-modified polyether used as a wetting and dispersing additive for pigments in industrial paints and coatings | (M) (G) Acid-modified polyether.
P-18-0376A | 2 | 11/5/2019 | Sumitomo Chemical Advanced Technologies LLC | (S) Substance used to improve physical properties in rubber products | (G) Thiosulfuric acid, aminoalkyl ester.
P-18-0387A | 4 | 11/11/2019 | CBI | (G) Plastic Additive | (G) Alkanal, reaction products with alkanediyl bis[alkyl-tris(alkyl-heterocycle)-1,3,5-triazine-2,4,6-triamine and hydrogen peroxide.
P-18-0388A | 4 | 11/11/2019 | CBI | (G) Plastic additive | (G) 1,3,5-triazine-2,4,6-triamine, alkanediyl bis[alkyl-tris(alkyl-heterocycle)-, allyl derivs., oxidized, hydrogenated.
P-18-0399A | 7 | 11/18/2019 | CBI | (G) Open, non-dispersive use additive for industrial use only | (G) Rosin adduct ester, polymer with polyols, compd. with ethanolamine.
P-18-0400A | 7 | 11/18/2019 | CBI | (G) Open, non-dispersive use, additive for textile industry | (G) Rosin adduct ester, polymer with polyols, potassium salt.
P-19-0064A | 5 | 10/30/2019 | The Sherwin Williams Company | (G) Polymeric film former for coatings | (G) 4,4′-methylenebis[2,6-dimethyl phenol] polymer with 2-(chloromethyl)oxirane, 1,4-benzyl diol, 2-methyl-2-propenoic acid, butyl 2-methyl 2-propenoate, ethyl 2-methyl 2-propenoate, and ethyl 2-propenoate, reaction products with 2-(dimethylamino) ethanol.
P-19-0077A | 8 | 11/12/2019 | CBI | (G) Agricultural | (G) alkenylamide.
P-19-0143A | 4 | 10/29/2019 | Aditya Birla Chemicals (USA), LLC | (S) A crosslinking agent for use in epoxy resin for water-based coating for a variety of substrates and civil applications in commercial and consumer usages | (G) Aldehyde, polymer with mixed alkanepolyamines, 2,2′-[1,4-alkanediylbis(oxyalkylene)] bis[oxirane], 2-(alkoxyalkyloxirane, 4,4′-(1-alkylidene)bis[phenol], 2,2′-[(1-alkylidene)bis(4,1-alkyleneoxyalkylene)]bis[oxirane] and 2-(aryloxyalkyl)oxirane, acetate (salt).
P-19-0144A | 4 | 10/29/2019 | Aditya Birla Chemicals (USA), LLC | (S) A crosslinking agent in epoxy based self-leveling floor coatings | (G) Alkanedioic Acid, compds. With substituted arylalkylamine- arylalcohol disubstituted alkane-the diglycidyl ether of a arylalcohol disubstituted alkane -epichlorohydrin-aldehyde-2,2′-[(1-alkylidene)bis[4,1-aryleneoxy(alkyl-2,1-alkanediyl)oxyalkylene]]bis[oxirane]-alkanepolyamine polymer-1-[[2-[(2-aminoalkyl)amino]alkyl]amino]-3-aryloxy-2-alcohol reaction products.
P-19-0145A | 5 | 11/7/2019 | ARC Products, Inc | (S) Oil Field Drilling Fluid Additive | (G) Polyazaalkane with oxirane and methyloxirane, haloalkane.
P-19-0145A | 6 | 11/14/2019 | ARC Products, Inc | (S) Oil Field Drilling Fluid Additive | (G) Polyazaalkane with oxirane and methyloxirane, haloalkane.
P-19-0153A | 4 | 11/6/2019 | Wego Chemical Group | (S) Raw material in Flame Retardant product | (G) Dibromoalkyl ether Tetrabromobisphenol A.
P-19-0155A | 4 | 10/30/2019 | Huntsman International, LLC | (S) Adjuvant for agrochemical formulations | (S) Amides, from C8-18 and C18-unsatd. glycerides and diethylenetriamine, ethoxylated.
P-19-0156A | 4 | 10/30/2019 | Huntsman International, LLC | (S) Adjuvant for agrochemical formulations | (S) Amides, from diethylenetriamine and palm kernel-oil, ethoxylated.
P-19-0157A | 4 | 10/30/2019 | Huntsman International, LLC | (S) Adjuvant in agrochemical formulations | (S) Amides, from coconut oil and diethylenetriamine, ethoxylated.
P-19-0158A | 5 | 10/29/2019 | Ashland, Inc. | (G) Adhesive | (G) Alkenoic acid polymer with 2-ethyl-2-(hdroxymethyl)-1,3-alkyldiol, 1,1′-methylenebis(4-isocyantocarbomonocycle) and 3-methyl-1,5-aklydiol.
P-19-0165A | 3 | 11/11/2019 | ARBORIS, LLC | (G) Plasticizer in rubber and Coating in minerals | (G) Tall oil pitch, fraction, sterol-low.
P-19-0167A | 3 | 10/31/2019 | Santolubes Manufacturing, LLC | (S) Synthetic engine, gear and lubricating oils and greases | (S) Poly(oxy-1,4-butanediyl), alpha-hydro-omega-hydroxy-, hexanoate.
P-19-0167A | 4 | 11/18/2019 | Santolubes Manufacturing, LLC | (S) Synthetic engine, gear and lubricating oils and greases | (S) Poly(oxy-1,4-butanediyl), alpha-hydro-omega-hydroxy-, hexanoate.
P-19-0168A | 4 | 11/1/2019 | CBI | (G) Well performance tracer | (G) Halogenated alkylbenzoic acid.
P-19-0169A | 4 | 11/1/2019 | CBI | (G) Well performance monitor | (G) Halogenated alkylbenzoic acid.
P-19-0180A | 5 | 11/1/2019 | CBI | (G) Well performance monitor | (G) Halogenated sodium benzoate.
P-19-0181A | 5 | 11/1/2019 | CBI | (G) Well performance monitor | (G) Halogenated sodium benzoate.
P-19-0182A | 5 | 11/1/2019 | CBI | (G) Well performance monitor | (G) Halogenated sodium benzoate.
P-20-0001A | 3 | 10/29/2019 | Santolubes Manufacturing, LLC | (S) Synthetic engine, gear & lubricating oils &; greases | (S) Poly(oxy-1,4-butanediyl), alpha-hydro-w-hydroxy-, nonanoate.
P-20-0001A | 4 | 10/31/2019 | Santolubes Manufacturing, LLC | (S) Synthetic engine, gear &amp; lubricating oils &; greases | (S) Poly(oxy-1,4-butanediyl), alpha-hydro-omega-hydroxy-, nonanoate.
P-20-0002A | 2 | 10/29/2019 | Santolubes Manufacturing, LLC | (S) Synthetic engine, gear & lubricating oils & greases | (S) Fatty Acids, C18-unsatd., dimers, hydrogenated, polymers with alpha-hydro-w-hydroxypoly(oxy-1,4-butanediyl) and nonanoic acid.
P-20-0002A | 4 | 10/29/2019 | Santolubes Manufacturing, LLC | (S) Synthetic engine, gear & lubricating oils & greases | (S) Fatty Acids, C18-unsatd., dimers, hydrogenated, polymers with alpha-hydro-omega-hydroxypoly(oxy-1,4-butanediyl) and nonanoic acid.
P-20-0002A | 5 | 10/31/2019 | Santolubes Manufacturing, LLC | (S) Synthetic engine, gear & lubricating oils & greases | (S) Fatty Acids, C18-unsatd., dimers, hydrogenated, polymers with alpha-hydro-omega-hydroxypoly(oxy-1,4-butanediyl) and nonanoic acid.
P-20-0004A | 2 | 10/29/2019 | Santolubes Manufacturing, LLC | (S) Synthetic engine, gear & lubricating oils & greases | (S) Fatty Acids, C18-unsatd., dimers, hydrogenated, polymers with hexanoic acid and alpha-hydro-omega-hydroxypoly(oxy-1,4-butanediyl).
P-20-0004A | 3 | 10/29/2019 | Santolubes Manufacturing, LLC | (S) Synthetic engine, gear & lubricating oils & greases | (S) Fatty Acids, C18-unsatd., dimers, hydrogenated, polymers with hexanoic acid and alpha-hydro-w-hydroxypoly(oxy-1,4-butanediyl).
P-20-0004A | 4 | 10/30/2019 | Santolubes Manufacturing, LLC | (S) Synthetic engine, gear & lubricating oils & greases | (S) Fatty Acids, C18-unsatd., dimers, hydrogenated, polymers with hexanoic acid and alpha-hydro-omega-hydroxypoly(oxy-1,4-butanediyl).
P-20-0004A | 5 | 10/30/2019 | Santolubes Manufacturing, LLC | (S) Synthetic engine, gear & lubricating oils & greases | (S) Fatty Acids, C18-unsatd., dimers, hydrogenated, polymers with hexanoic acid and alpha-hydro-omega-hydroxypoly(oxy-1,4-butanediyl).
P-20-0005A | 3 | 11/11/2019 | RMC Advanced Technologies, Inc. | (G) Additive for plastics and resins | (G) modified graphene.
P-20-0023 | 1 | 11/18/2019 | CBI | (G) The notified substance will be used as a fragrance ingredient. It will be blended (mixed) with other fragrance ingredients to make fragrance oils. The fragrance oils containing the notified substance will then be incorporated into soaps, detergents, cleaners, air fresheners, candles and other similar commercial and consumer products | (G) heteropolycycle, 2,6-dimethyl-3a-(1-methylethyl)-.
P-20-0025 | 1 | 11/19/2019 | Biosynthetic Technologies | (S) Motor oil lubricant, formulation #1 and formulation #2 | (S) Octadecanoic acid, 12-(acetoxy)-, 2-ethylhexyl ester.
SN-18-0002A | 4 | 11/4/2019 | CBI | (G) Flame retardant for textile | (G) Phosphoramidic acid, carbomonocyclic-, diphenylester (accession number 261553).
* The term `Approved' indicates that a submission has passed a quick initial screen ensuring all required information and documents have been provided with the submission prior to the start of the 90-day review period, and in no way reflects the final status of a complete submission review.

In Table II of this unit, EPA provides the following information (to the extent that such information is not claimed as CBI) on the NOCs that have passed an initial screening by EPA during this period: The EPA case number assigned to the NOC including whether the submission was an initial or amended submission, the date the NOC was received by EPA, the date of commencement provided by the submitter in the NOC, a notation of the type of amendment (e.g., amendment to generic name, specific name, technical contact information, etc.) and chemical substance identity.

Table II—NOCs Approved * From 11/01/2019 to 11/30/2019
Case No. | Received date | Commencement date | If amendment, type of amendment | Chemical substance
J-19-0017 | 11/14/2019 | 10/29/2019 | N | (G) Genetically modified microorganism.
P-17-0007A | 11/15/2019 | 9/20/2018 | Y CBI Substantiation provided | (G) Dialkyl 7,10-dioxa, dithiahexadeca diene.
P-18-0172 | 11/7/2019 | 11/6/2019 | N | (G) Calcium carbonate carboxylate.
P-18-0276 | 11/5/2019 | 10/7/2019 | N | (S) Benzenesulfonamide, N-[2-[[(phenylamino)carbonyl]amino]phenyl]-.
P-18-0312 | 11/6/2019 | 10/23/2019 | N | (G) Formaldehyde, polymer with 2-phenoxyalkanol and alpha.-phenyl-.omega. hydroxypoly(oxy-1,2-alkylnediyl), dihydrogen phosphate 2-phenoxyalkyl hydrogen phosphate, alkaline salt.
P-18-0321 | 11/6/2019 | 10/23/2019 | N | (G) Polyalkylene glycol.
P-19-0086 | 11/15/2019 | 11/15/2019 | N | (S) Benzeneacetic acid, 2,3-difluoro-, sodium salt (1:1).
P-19-0087 | 11/15/2019 | 11/15/2019 | N | (S) Benzeneacetic acid, 2-fluoro-, sodium salt (1:1).
P-19-0089 | 11/15/2019 | 11/15/2019 | N | (S) Benzenepropanoic acid, 3-fluoro-, sodium salt (1:1).
P-19-0090 | 11/15/2019 | 11/15/2019 | N | (S) Benzoic acid, 5-fluoro-2-methyl-, sodium salt (1:1).
P-19-0091 | 11/18/2019 | 11/18/2019 | N | (S) Benzeneacetic acid, 2,3-difluoro-.
P-19-0092 | 11/18/2019 | 11/18/2019 | N | (S) Benzenepropanoic acid, 3-fluoro-.
P-19-0096 | 11/21/2019 | 11/4/2019 | N | (S) 2(3H)-Benzofuranone, 5,7-bis(1,1-dimethylethyl)-3-[3,5-dimethyl-4-[[2,4,8,10-tetrakis(1,1-dimethylethyl)-12-methyl- 12H-dibenzo[d,g][1,3,2]dioxaphosphocin-6-yl]oxy]phenyl]-.
P-19-0097 | 11/18/2019 | 11/18/2019 | N | (S) Benzoic acid, 5-fluoro-2-methyl-, ethyl ester.
P-19-0100 | 11/18/2019 | 11/18/2019 | N | (S) Benzoic acid, 4-fluoro-2-methyl-, ethyl ester.
P-19-0101 | 11/18/2019 | 11/18/2019 | N | (S) Benzoic acid, 4-chloro-2-methyl-, ethyl ester.
P-19-0102 | 11/18/2019 | 11/18/2019 | N | (S) Benzoic acid, 5-chloro-2-methyl-, ethyl ester.
P-19-0105 | 11/18/2019 | 11/18/2019 | N | (S) Benzoic acid, 2-chloro-5-fluoro-, ethyl ester.
P-19-0106 | 11/18/2019 | 11/18/2019 | N | (S) Benzoic acid, 2-chloro-5-methyl-, ethyl ester.
P-19-0107 | 11/18/2019 | 11/18/2019 | N | (S) Benzoic acid, 3-fluoro-4-methyl-, ethyl ester.
P-19-0110 | 11/18/2019 | 11/18/2019 | N | (S) Benzoic acid, 2,4-dichloro-5-fluoro-, ethyl ester.
P-19-0117 | 11/4/2019 | 10/18/2019 | N | (G) Polycyclic amine, reaction products with polyalkylalkene, polymers.
P-19-0130 | 10/30/2019 | 10/23/2019 | N | (G) Aminohydroxy salt.
* The term `Approved' indicates that a submission has passed a quick initial screen ensuring all required information and documents have been provided with the submission.

In Table III of this unit, EPA provides the following information (to the extent such information is not subject to a CBI claim) on the test information that has been received during this time period: The EPA case number assigned to the test information; the date the test information was received by EPA, the type of test information submitted, and chemical substance identity.

Table III—Test Information Received From 11/01/2019 to 11/30/2019
Case No. | Received date | Type of test information | Chemical substance
P-09-0644 | 11/4/2019 | Annual Analytical Report | (G) Substituted alkyl phosphate ester.
P-16-0543 | 11/4/2019 11/18/2019 | Exposure Monitoring Report | (G) Halogenophosphoric acid metal salt.
P-16-0593 | 11/4/2019 | Particle Size Distribution Study and Surface Tension Study (OECD Test Guideline 115) | (G) Aromatic Polyester Polyol.
P-17-0195 | 11/4/2019 11/20/2019 | Combined Repeated Dose and Reproductive/Development Test of [Claimed CBI] by Oral Administration in Rats (OECD Test Guideline 422), Clinical signs table, Plasma concentration of total T4 in rats table Evaluation of DNA Repair Inducing Ability of [CBI] in Male Rat Hepatocytes (in vivo Rat Hepatocyte DNA-Repair Assay) (OECD Test Guideline 486) | (G) 1,3-Propanediol, 2-methylene- substituted.
P-18-0027 | 11/7/2019 | Substance Identifiers | (G) 2-Propenoic acid, 2-alkyl-, 2-(dialkylamino)alkyl ester, polymer with alpha-(2-alkyl-1-oxo-2-alken-1-yl)-omega-methoxypoly(oxy-1,2-alkanediyl).
P-18-0141 | 11/18/2019 | Evaluation of the Ability of [CBI] to Induce Chromosome Aberration in Cultured Peripheral Human Lymphocytes (OECD Test Guideline 473), Activated Sludge Respiration Inhibition Test with [CBI] (OECD Test Guideline 209), DEREK Prediction on Skin Sensitization of [CBI], Combined Repeated Dose Toxicity Study with the Reproduction/Developmental Toxicity Screening Test (OECD Test Guideline 422), Determination of Physico-Chemical Properties of [CBI] (OECD Test Guideline s101, 102, 103, 104, 109), In vitro Skin Corrosion Test with using a Human Skin Model (OECD Test Guideline 431), Ready Biodegeradability (OECD Test Guideline 301B), Evaluation of the Eye Hazard Potential of using the Bovine Corneal Opacity and Permeability Test (OECD Test Guideline 437), Acute Oral Toxicity (OCED Test Guideline 423), In Vitro Skin Irritation (OECD Test Guideline 439), Acute Inhalation Toxicity (OECD Test Guideline 403) | (G) Ethyl modified lactam.
P-18-0293 | 11/7/2019 | Skin Sensitization Test (Local Lymph Node Assay) (OECD Test Guideline 429) | (S) propanedioic acid, 2-methylene-, 1,3-dihexyl ester.
P-18-0294 | 11/7/2019 | Skin Sensitization Test (Local Lymph Node Assay) (OECD Test Guideline 429) | (S) propanedioic acid, 2-methylene-, 1,3-dicyclohexyl ester.
P-18-0350 | 11/26/2019 | Acute Oral Toxicity (OECD Test Guideline 401), Hydrolysis as a Function of pH (OECD Test Guideline 111), Read Across Justification | (G) Aqueous methacrylamido modified polysiloxane.
P-19-0041 | 11/26/2019 Submitted | Acute Toxicity to Fish Mitigated by Humic Acid | (G) Alkyl diester, polymer with (dialkylamino alkyl) amine and bis(halogenated alkyl) ether.

If you are interested in information that is not included in these tables, you may contact EPA's technical information contact or general information contact as described under FOR FURTHER INFORMATION CONTACT to access additional non-CBI information that may be available.

Authority: 15 U.S.C. 2601 et seq.

Dated: January 29, 2020.
Pamela Myrick,
Director, Information Management Division, Office of Pollution Prevention and Toxics.

[FR Doc. 2020-03146 Filed 2-14-20; 8:45 am]

BILLING CODE 6560-50-P